DEPARTMENT OF AGRICULTURE

Forest Service

Coconino and Kaibab National Forests, Arizona, Four-Forest Restoration Initiative

AGENCY: Forest Service, USDA.

ACTION: Notice of intent to prepare an environmental impact statement; Correction.

SUMMARY: On January 25, 2011, the Notice of Intent (NOI) to prepare an environmental impact statement (EIS) was published in the Federal Register (76 FR 4279-4281). From January, 2011 to June, 2011, six public meetings and workshops were held for the purposes of receiving comments and recommendations that would inform the development of a refined proposed action. As a result, the Forest Service revised the NOI document, Federal Register of January 25, 2011 (76 FR 4279-4281) to incorporate the changes to the proposed action. On August 12, 2011, a corrected NOI was published in the Federal Register (76 FR 50168-50170).

Due to a need to incorporate an edit in the proposed action and reschedule the public open houses, the Forest Service has revised the NOI document to read:

Revision: The Forest Service is preparing an environmental impact statement (EIS) that proposes to conduct restoration activities on approximately 600,000 acres on the Coconino NF and Kaibab NF. Of this total, approximately 361,379 acres would be treated on the Coconino NF and 233,991 acres would be treated on the Kaibab NF. Restoration actions would be focused on the Flagstaff district with fewer acres included on the Mogollon Rim and Red Rock districts of the Coconino NF. On the Kaibab NF, activities would occur on the Williams and Tusayan districts. The objective of the project is to re-establish forest structure, pattern and composition, which will lead to increased forest resiliency and function. Resiliency increases the ability of the ponderosa pine forest to survive natural disturbances such as insect and disease, fire and climate change (FSM 2020.5). This project is expected to put the project area on a trajectory towards comprehensive, landscape-scale restoration with benefits that include improved vegetation biodiversity, wildlife habitat, soil productivity, and watershed function.

DATES: Comments concerning the scope of the analysis must be received by September 2, 2011. The draft environmental impact statement is expected by January of 2012 and the final environmental impact statement is expected in the summer of 2012.

ADDRESSES: Send written comments to Coconino National Forest, Attention: 4FRI, 1824 S. Thompson Street, Flagstaff, Arizona 86001. Comments may also be sent via e-mail to 4FRI_comments@fs.fed.us, or via facsimile to (928) 527-3620.

FOR FURTHER INFORMATION CONTACT: Henry Provencio, 4 FRI Team Leader at (928) 226-4684 or via e-mail at hprovencio@fs.fed.us.

Individuals who use telecommunication devices for the deaf (TDD) may call the Federal Information Relay Service (FIRS) at 1-800-877-8339 between 8 a.m. and 8 p.m., Eastern Time, Monday through Friday.

SUPPLEMENTARY INFORMATION:

Background

Extensive research has demonstrated that current ponderosa pine forests of the Southwest are greatly altered in terms of forest structure, density, and ecological function. Most pine forests in the Southwest are at much higher risk of high intensity and severe fire than they were prior to European settlement (Covington 1993, Moore et al. 1999). A century ago the pine forests had widely-spaced large trees with a more open, herbaceous forest floor (Cooper 1960). These conditions were maintained by fairly frequent low-severity surface fires that did not kill the large trees (Fiedler et al. 1996). These fires occurred every 2 to 21 years and maintained an open canopy structure (Moir et al. 1997). Fire suppression, cattle grazing, timber production, and general human habitation in and near the forests over the last 100 years interrupted fire's natural role in these fire-adapted ponderosa pine forests. As a result, the forests have shifted from naturally open conditions to high densities of small diameter trees (Covington and Moore 1994) dramatically increasing the size and severity of wildland fires (Swetnam and Betancourt 1998). The forests have become less resilient to natural disturbances and are vulnerable to large-scale disturbances such as changing climatic conditions (drought), fire, insect, and disease.

Purpose and Need for Action

In contrast to having a ponderosa pine ecosystem consisting of groups of trees with an open tree canopy density mixed with interspaces, approximately 75 percent of the ponderosa pine forest type within the project area has a moderately closed to closed tree canopy density. An open tree canopy mixed with interspaces which mimic historical spatial patterns and provide for tree regeneration and the development of grass and forbs are lacking. There is a need to use management strategies that promote tree regeneration and understory vegetation. There is a need to move towards the historic range of variability for tree canopy density and patterns of tree groups and interspaces. Forest resiliency and diversity is dependent on the distribution of age and size classes.

Currently, over 50 percent of the project area lacks age and size class diversity and is in an even-aged structure. The desired condition is to have a forest structure that represents all age classes necessary for a sustainable balance of regeneration, growth, mortality and decomposition. There is a need to implement un-even aged management strategies where appropriate. In goshawk habitat, habitat components such as an intermix of vegetation structural stages are lacking or limited in most stands. There is a need to manage for a balanced interspersion of age classes in goshawk foraging and PFA/nest stand habitat. Forest structure in Mexican spotted owl (MSO) habitat has an excess of the smaller size classes (12″ to 18″) and is deficit in trees 18″ to 24″ dbh in restricted habitat and in target/threshold, a component of restricted habitat. There is a need to implement uneven-aged management strategies and manage for high-density, relatively uneven-aged stands in MSO restricted habitat, including target/threshold habitats.

In both goshawk and MSO habitat, stand conditions are on a trajectory towards density-related mortality. The desired condition is to improve forest health by reducing the potential for density-related mortality and move towards forest plan desired conditions for snags and course woody debris. There is a need to reduce stand densities in all habitats except MSO restricted and target threshold.

Approximately 25 percent to 35 percent of the project area has some level of infection ranging from light to extreme. The desired condition is to have a varied level of mistletoe across the landscape that is comparable with historic reference conditions. There is a need to use management strategies that would reduce stand densities in order to reduce (but not eliminate) the level of dwarf mistletoe infection.

Vegetation diversity throughout the project area has declined (USDA 2009). A lack of fire, which ultimately allowed for increased stand densities, has allowed Gambel oak to become overtopped by fast growing ponderosa pine. The desired condition is to develop and maintain a variety of oak size classes and forms, where they occur, that range from shrubby thickets and pole-sized clumps to large trees across the landscape. There is a need to use management strategies that stimulate new growth and maintain growth in large diameter trees.

There are approximately 7,700 acres of aspen in the project area. Aspen is dying or rapidly declining on both forests due to the combined effects of conifer encroachment, browsing, insect, disease, severe weather events, and lack of fire disturbance (USDA 2008 2009). The desired condition is to maintain and/or regenerate aspen. Where possible, there is a need to stimulate growth and increase individual recruitment of aspen. On the Coconino NF, grasslands have decreased from approximately 8 percent to 3 percent since historic conditions (generally pre-1900). On the Kaibab NF, grasslands have decreased from approximately 15 to 7 percent (USDA 2008) (USDA 2009). The desired condition is to move towards the historic range of variability of tree canopy cover that ranges from 0 to 9 percent. Fire should function as a natural disturbance across the landscape without causing loss to ecosystem function or to human safety, lives, and values. There is a need to reduce (and in some cases remove) tree encroachment which has reduced the size and function of landscapes that were historically grasslands.

Big sage and ponderosa pine co-occur on approximately 6,094 acres of the Tusayan district portion of the project area. The desired condition for the pine/sage understory community is a shifting mosaic of sagebrush with a mix of age classes averaging from 3 to 5 percent cover. With other shrub canopies combined, the percent cover would average around 9 to 14 percent under a 25 to 30 percent canopy of ponderosa pine. The mosaic pattern would be largely regulated by low intensity fires. On approximately 40 percent of the pine-sage cover type, there is a need to retain vegetation age class diversity in big sage and promote a shifting mosaic of shrub cover.

Approximately 41 percent of the project area has the potential to sustain crown fire and about 58 percent has the potential for surface fire. Dense forest conditions (numerous trees with interlocking crowns) are common within the project area and would support active crown fire. Even without crown fire, a high intensity surface fire burning though this area could scorch the canopy sufficiently to cause widespread mortality. The current fire return interval is approximately 43 years, about four times longer than the desired fire return interval which is between 2 and 21 years. The desired condition is to have fire, as a disturbance process, maintain a mosaic of diverse native plant communities. No more than 10 percent of the analysis area should be prone to crown fire. When crown fire does occur, it would be mostly passive crown fire, occurring in single trees, groups, or clumps, or areas where there had been mortality (wind throw, insects, etc.). There is a need to reduce the potential for crown and high intensity surface fire.

Across the entire analysis area, 75 percent is currently rated as condition class 3 which indicates the fire regime is significantly departed from historical ranges. In a condition class 3, the risk of losing key ecosystem components is high. Fire frequencies have departed from historical frequencies by multiple return intervals resulting in dramatic alterations to fire size, intensity, severity, landscape patterns, and/or vegetation attributes. The desired condition is to have 99 percent of the analysis area in FRCC 1. There is a need to reduce the percent of area in FRCC 3 and move the fire regimes towards FRCC 1.

Springs and seeps play an important role on the landscape for hydrological function of watersheds and they are very important for wildlife and plant diversity. Fifty-one developed springs on the Coconino NF are not functioning at or near potential and 27 springs on the Kaibab NF have reduced function. The desired condition is to have the necessary soil, water, and vegetation attributes to be healthy and functioning at or near potential. Ephemeral streams are important for hydrological function of watersheds and provide important seasonal habitat for a variety of wildlife, in particular, migratory birds and dispersing amphibians. On the Coconino NF, approximately 36 miles of channels are heavily eroded with excessive bare ground, denuded vegetation, and head cuts. Of the total miles, approximately 6 miles are riparian streams and 30 miles are non-riparian streams. The Kaibab NF has approximately 7 miles of channels in this condition and all are non-riparian reaches. The desired condition is to restore the functionality of both springs and ephemeral streams. On all springs and streams and channels, there is a need to return fire, a natural disturbance processes, to the system.

Both forests have identified the needed road system for public and administrative motorized use through the Travel Management Rule (TMR) process. As a precursor to the TMR process, the Coconino NF identified roads that should be closed to public travel, decommissioned, or considered for other uses because they were no longer needed to meet resource management objectives (USDA 2010). A review of 2010 data indicates there is a need to decommission approximately 941 miles of existing system and unauthorized roads on the Coconino NF. Similar to the Coconino process, the Kaibab NF identified resource risks and access benefits associated with all roads. A review of Kaibab NF data indicates approximately 170 miles of unauthorized roads are recommended for decommissioning. The desired condition is to have soils in satisfactory condition so that the soil can resist erosion, recycle nutrients and absorb water. There is a need to decommission the roads that have been identified.

In addition to the need for decommissioning roads, there is a need to have adequate access to the project area for implementation. There is a need to upgrade road segments which have resource or health and human safety concerns, construct temporary roads that could be used for access, and temporarily open existing closed roads. Once the project is completed, there is a need to decommission the temporary roads and closed roads.

Proposed Action

In response to the purpose and need, the Coconino and Kaibab National Forests propose to conduct approximately 595,370 acres of restoration activities (within the 988,764 acre project area) over approximately 10 years or until objectives are met. Approximately 20,000 to 30,000 acres of vegetation would be treated annually and up to 60,000 acres prescribed burned annually across the two forests. Restoration activities would: (1) Mechanically cut trees and prescribe burn on approximately 389,993 acres, (2) cut trees by hand and prescribe burn on slopes greater than 40 percent on approximately 99 acres, (3) prescribe burn only on approximately 205,278 acres, (4) decommission 941 miles of roads designated “closed”, (5) decommission 170 miles of unauthorized roads, (6) construct 46 miles of temporary roads for haul access and obliterate when treatments are finished, (7) reconstruct 27 miles of existing open roads for natural resource, health and human safety concerns, (8) open 183 miles of existing closed roads in order to conduct treatments and close and rehabilitate as needed when treatments are finished, (9) restore 78 springs, (10) restore 43 miles of ephemeral channels, and, (11) construct 82 miles of protective (aspen and springs) fencing. An old tree implementation strategy, that is integral to the proposed action, is included in appendix B in the proposed action document. A large tree implementation strategy, that is not part of the proposed action, is included in appendix C. Appendix C has been included for comment purposes only.

Forest plan amendments are integral to the proposed action. Three non-significant forest plan amendments would be required on the Coconino NF to implement the proposed action. One non-significant forest plan amendment would be required on the Kaibab NF. The proposed amendments are located at appendix F in the proposed action document.

Possible Alternatives

A full range of alternatives to the proposed action, including a no-action alternative, will be considered. The no-action alternative represents no change and serves as the baseline for the comparison among the action alternatives.

Responsible Official

The Responsible Officials are the Coconino Forest Supervisor and Kaibab Forest Supervisor.

Nature of Decision To Be Made

Given the purpose and need of the project, the forest supervisors will review the proposed action, other alternatives and the environmental consequences in order to make the following decisions including determining: (1) Whether to select the proposed action or another alternative; (2) the location, design, and scheduling of proposed restoration activities; (3) the estimated products, if any, to be made available from the project; (4) mitigation measures, monitoring requirements and adaptive management actions; and, (5) whether forest plan amendments are needed.

Scoping Process

This corrected notice of intent initiates the scoping process, which guides the development of the environmental impact statement. Two open houses are planned during the comment period. The first open house will be held on August 25, 2011 at the Williams Ranger District, 742 South Clover Road, Williams, Arizona, from 4 p.m. to 7:30 p.m. The second open house will be held on August 27, 2011 at the Coconino National Forest Supervisor's Office, 1824 S. Thompson Street, Flagstaff, AZ 86101, from 10 a.m. to 2 p.m. Please contact Paula Cote at (928) 226-4686 for additional information.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: August 12, 2011.
Michael R. Williams,
Forest Supervisor, Kaibab National Forest.

[FR Doc. 2011-21051 Filed 8-18-11; 8:45 am]

BILLING CODE 3410-11-M